SECURITIES AND EXCHANGE COMMISSION

[SEC File No. 270-475, OMB Control No. 3235-0536]

Proposed Collection; Comment Request; Extension: Regulation FD—Other Disclosure Materials

Upon Written Request Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Regulation FD (17 CFR 243.100 et seq.) requires public disclosure of material information from issuers of publicly traded securities so that investors have current information upon which to base investment decisions. The purpose of the regulation is to require: (1) an issuer that intentionally discloses material information, to do so through public disclosure, not selective disclosure; and (2) to make prompt public disclosure of material information that was unintentionally selectively disclosed. We estimate that approximately 7,196 issuers make Regulation FD disclosures approximately five times a year for a total of 19,274 responses annually (after excluding the approximately 16,706 Form 8-K filings that are made annually to comply with Regulation FD). We estimate that it takes 5 hours per response for a total burden of 96,370 hours annually (19,274 responses × 5 hours). In addition, we estimate that 75% of the 5 hours per response (3.75 hours) is carried internally by the filer for an annual reporting burden of 72,278 hours (3.75 hours per response × 19,274 responses).

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication by March 31, 2025.

An agency may not conduct or sponsor, and a person is not required to respond to, a collection of information unless it displays a currently valid control number.

Please direct your written comment to Austin Gerig, Director/Chief Data Officer, Securities and Exchange Commission, c/o Tanya Ruttenberg, 100 F Street NE, Washington, DC 20549 or send an email to: PRA_Mailbox@sec.gov.

Dated: January 22, 2025.
Sherry R. Haywood,
Assistant Secretary.

[FR Doc. 2025-01765 Filed 1-27-25; 8:45 am]

BILLING CODE 8011-01-P